DEPARTMENT OF AGRICULTURE

Animal and Plant Health Inspection Service

[Docket No. 98-085-5]

Aquaculture; Public Meeting

AGENCY: Animal and Plant Health Inspection Service, USDA.

ACTION: Notice of public meeting.

SUMMARY: We are issuing this notice to inform the aquaculture industries, interested parties, and the general public that a public meeting will be held to discuss how and to what extent the Animal and Plant Health Inspection Service should regulate aquatic species and to discuss any other issues concerning possible regulation of aquaculture by the Agency.

DATES: The public meeting will be held on Friday, June 8, 2001, from 2 p.m. to 5 p.m.

ADDRESSES: The public meeting will be held in the Community Meeting Room of the Twin Falls County Office Building, 246 Third Avenue East, Twin Falls, ID, in conjunction with the annual meeting of the Idaho Aquaculture Association.

FOR FURTHER INFORMATION CONTACT: For information about the APHIS public meeting, contact Dr. Otis Miller, Jr., National Aquaculture Coordinator, Center for Planning, Certification, and Monitoring, VS, APHIS, 4700 River Road Unit 46, Riverdale, MD 20737-1231, (301) 734-6188.

For information regarding the annual meeting of the Idaho Aquaculture Association, call Mr. Dave Bruhn, Executive Secretary, Idaho Aquaculture Association, (208) 543-4898.

SUPPLEMENTARY INFORMATION: On May 4, 1999, the Animal and Plant Health Inspection Service (APHIS) published an advance notice of proposed rulemaking (ANPR) titled “Aquaculture: Farm-Raised Fin Fish” in the Federal Register (64 FR 23795-23796, Docket No. 98-085-1). We published this ANPR after receiving petitions ¹ asking us to regulate aquaculture in various ways. Many petitioners asked us to define farmed aquatic animals as livestock. In general, the petitioners seemed to be interested in receiving the same services that domestic producers of livestock receive for animals moving in interstate and foreign commerce. However, based on the petitions alone, it was difficult for us to determine what segments of the industry want services and exactly what services they want. It was also difficult to determine the objectives sought by the petitioners who were requesting Federal regulation. We published the ANPR in an attempt to clarify the industry's needs, the nature of the services sought, and the concerns the petitioners had with regard to such regulations.

¹ All the petitions and comments we received are a part of the rulemaking record for Docket No. 98-085-1. You may read the petitions and comments in our reading room. The reading room is located in room 1141 of the USDA South Building, 14th Street and Independence Avenue, SW., Washington, DC. Normal reading room hours are 8 a.m. to 4:30 p.m., Monday through Friday, except holidays. To be sure someone is there to help you, please call (202) 690-2817 before coming.

We received 55 comments ² in response to the ANPR. A majority of the commenters supported the idea of APHIS regulation of cultured fin fish. Unfortunately, the commenters generally did not clearly distinguish between fin fish raised for food and ornamental fin fish. Commenters who wanted regulation were, however, very clear that they want programs to prevent and control disease and to support increased commerce, both domestic and export.

² All the petitions and comments we received are a part of the rulemaking record for Docket No. 98-085-1. You may read the petitions and comments in our reading room. The reading room is located in room 1141 of the USDA South Building, 14th Street and Independence Avenue, SW., Washington, DC. Normal reading room hours are 8 a.m. to 4:30 p.m., Monday through Friday, except holidays. To be sure someone is there to help you, please call (202) 690-2817 before coming.

The commenters also suggested that any rulemaking initiated by APHIS be a negotiated rulemaking. In negotiated rulemaking, industry representatives and other interested persons meet with APHIS officials and draft proposed regulations together. The proposed regulations are then published for public comment. Negotiated rulemaking is designed to ensure that all interested persons are involved together from the start in the development of regulations.

Unfortunately, negotiated rulemaking is not suitable for all situations. It works well when there is a small number of interested parties and the parties are easy to identify. This is not the case with aquaculture. Because the aquaculture industry is large and diverse, we would have difficulty identifying everyone who should be represented in a negotiated rulemaking. In addition, many parties outside of aquaculture would have a substantial interest in such a rulemaking. In our view, the number of people who would need to participate in a negotiated rulemaking would be too large and would suggest that negotiated rulemaking is not appropriate. Furthermore, a negotiated rulemaking would be expensive, and APHIS does not have adequate funds. Therefore, we have concluded that it would not be appropriate to pursue an aquaculture negotiated rulemaking.

However, we have not decided whether to pursue aquaculture rulemaking by other means. Before we make that decision, we want to have as much information as possible from all interested persons, and we want to provide you with as much opportunity as possible to discuss with us and inform us regarding the relevant issues.

Therefore, we are holding a series of public meetings. Public meetings allow all interested parties—industry representatives, producers, consumers, and others—to present their views and to exchange information among themselves and with APHIS.

There are no set agendas for the meetings. Any issues and concerns related to aquaculture and possible APHIS regulatory action can be discussed. However, we would like more information on three specific issues. These are issues that the people and organizations who commented on our ANPR either did not address or were unclear about. Specifically, if APHIS does propose regulations: (1) Should our program be mandatory or voluntary; (2) should we cover shell fish; and (3) should we cover ornamental fin fish?

Information elicited at the meetings could result in a new APHIS regulatory program or in changes to aquaculture-related services currently provided by APHIS.

We have scheduled this public meeting, the fourth meeting in our series, for Friday, June 8, 2001, in the Community Meeting Room of the Twin Falls County Office Building, Twin Falls, ID. If you wish to speak at the meeting, please register in advance by calling the Regulatory Analysis and Development voice mail at (301) 734-4339. Leave a message with your name, telephone number, organization, if any, and an estimate of the time you need to speak. You may also register at the meeting by following the instructions provided by an APHIS representative at the beginning of the meeting. Starting with the advance registrants, we will call speakers in the order in which they registered.

The meeting will begin at 2 p.m. and is scheduled to end at 5 p.m. We may end the meeting early if all the registered speakers have had a chance to speak and if no one else wants to speak. We may also extend the meeting or limit the time allowed for each speaker, if necessary, so all interested persons have an opportunity to participate.

An APHIS representative will preside at the meeting. The meeting will be recorded. We encourage speakers to present written statements, though it is not required. If you choose to present a written statement, please provide the chairperson with a copy. The complete record, including the transcript and all written comments, will be available to the public.

This meeting is the fourth in our series of public meetings. The first public meeting was held on January 25, 2001, in Lake Buena Vista, FL. The second public meeting was held on February 16, 2001, in Hebron, KY, and the third public meeting was held on April 5, 2001, in Machias, ME. We plan to hold additional meetings in Washington (September 2001, in conjunction with the Pacific Coast Shellfish Growers Association Annual Conference), Pennsylvania (October 2001, in conjunction with the Pennsylvania Aquaculture Advisory Committee and Pennsylvania Aquaculture Association Annual Meeting), Mississippi (October 2001, in conjunction with a meeting of the Catfish Farmers of America), and Arkansas (October 2001, in conjunction with a meeting of the Catfish Farmers of Arkansas). We will publish a notice or notices in the Federal Register announcing the dates, times, and locations of the meetings.

Done in Washington, DC, this 4th day of May 2001.
Chester A. Gipson,
Acting Administrator, Animal and Plant Health Inspection Service.

[FR Doc. 01-11816 Filed 5-9-01; 8:45 am]

BILLING CODE 3410-34-D